DEPARTMENT OF HEALTH AND HUMAN SERVICES

Centers for Disease Control and Prevention

[CDC-2013-0015; NIOSH-237-A]

National Institute for Occupational Safety and Health Personal Protective Technology Program and National Personal Protective Technology Laboratory Conformity Assessment; Extension of Comment Period

AGENCY: The National Institute for Occupational Safety and Health (NIOSH) of the Centers for Disease Control and Prevention (CDC), Department of Health and Human Services (HHS).

ACTION: Notice and extension of comment period.

SUMMARY: On August 14, 2013, the Director of the National Institute for Occupational Safety and Health (NIOSH) of the Centers for Disease Control and Prevention (CDC) published a notice in the Federal Register [78 FR 49524] announcing a public meeting. This meeting was held on September 17, 2013 to provide (1) a summary of the work conducted by the NIOSH Personal Protective Technology (PPT) Conformity Assessment Working Group (PCAWG), (2) provide an overview of model Conformity Assessment programs, and (3) solicit input to define a national framework for PPE conformity assessment.

NIOSH's National Personal Protective Technology Laboratory (NPPTL) is addressing recommendations of the Institute of Medicine (IOM) and the National Research Council based on a review of NPPTL's program activities. The IOM report identified gaps and inconsistencies in the certification and other conformity assessment processes for non-respiratory PPT. Conformity assessment is defined as the “demonstration that specified requirements relating to a product, process, system, person or body are fulfilled.” Conformity assessment processes for PPT products are focused on product effectiveness and include the following primary components: Certification (ISO/IEC 17065), Inspection (ISO/IEC 17020), Testing (ISO/IEC 17025), Accreditation (ISO/IEC 17011), Surveillance (ISO/IEC 17011, ISO/IEC 17065), Supplier's Declaration of Conformity (ISO/IEC 17050), Registration (ISO/IEC 17021) and Quality management systems (ISO/9001).

Written comments were to be received by September 30, 2013. NIOSH is extending the public comment period to December 2, 2013.

You may submit comments by either of the following methods:

• Federal eRulemaking Portal: http://www.regulations.gov. Follow the instructions for submitting comments.

• Mail: NIOSH Docket Office, Robert A. Taft Laboratories, MS-C34, 4676 Columbia Parkway, Cincinnati, OH 45226.

All information received in response to this notice and meeting must include the agency name and docket number (CDC-2013-0015; NIOSH-237-A). All relevant comments received will be posted without change to http://www.regulations.gov, including any personal information provided. All information will be available for public examination and copying at the NIOSH Docket Office, 4676 Columbia Parkway, Room 109, Cincinnati, OH 45226. All electronic comments should be formatted in Microsoft Word.

To view the notice and related materials, visit http://www.regulations.gov and enter CDC-2013-0015 in the search field and click “Search.”

FOR FURTHER INFORMATION CONTACT: Richard Metzler, General Engineer, NIOSH at NPPTLEvents@cdc.gov, telephone (412) 386-6686, fax (412) 386-6617.

Dated: September 25, 2013.
John Howard,
Director, National Institute for Occupational Safety and Health, Centers for Disease Control and Prevention.

[FR Doc. 2013-23982 Filed 10-1-13; 8:45 am]

BILLING CODE 4163-19-P